NUCLEAR REGULATORY COMMISSION

[NRC-2009-0347]

Biweekly Notice Applications and Amendments to Facility Operating Licenses Involving No Significant Hazards Considerations

I. Background

Pursuant to section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from July 16, 2009, to July 29, 2009. The last biweekly notice was published on July 28, 2009 (74 FR 37245).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), section 50.92, this means that operation of the facility in accordance with the proposed amendment would not: (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking and Directives Branch (RDB), TWB-05-B01M, Division of Administrative Services, Office of Administration, U.S. Nuclear Regulatory Commission, Washington, DC 20555-0001, and should cite the publication date and page number of this Federal Register notice. Written comments may also be faxed to the RDB at 301-492-3446. Documents may be examined, and/or copied for a fee, at the NRC's Public Document Room (PDR), located at One White Flint North, Public File Area O1F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area O1F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule, which the NRC promulgated in August 28, 2007 (72 FR 49139). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the petitioner/requestor should contact the Office of the Secretary by e-mail at hearing.docket@nrc.gov, or by calling (301) 415-1677, to request (1) A digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory e-filing system may seek assistance through the “Contact Us” link located on the NRC Web site at http://www.nrc.gov/site-help/e-submittals.html or by calling the NRC Meta-System Help Desk, which is available between 8 a.m. and 8 p.m., Eastern Time, Monday through Friday, excluding government holidays. The Meta-System Help Desk can be contacted by telephone at 1-866-672-7640 or by e-mail at MSHD.Resource@nrc.gov.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the request and/or petition should be granted and/or the contentions should be admitted, based on a balancing of the factors specified in 10 CFR 2.309(c)(1)(i)-(viii).

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submissions.

For further details with respect to this license amendment application, see the application for amendment which is available for public inspection at the Commission's PDR, located at One White Flint North, Public File Area O1F21, 11555 Rockville Pike (first floor), Rockville, Maryland. Publicly available records will be accessible from the ADAMS Public Electronic Reading Room on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Detroit Edison Company, Docket No. 50-341, Fermi 2, Monroe County, Michigan

Date of amendment request: June 10, 2009.

Description of amendment request: The proposed amendment would amend the Fermi 2 Plant Operating License, Appendix A, Technical Specifications (TS) to revise Technical Specification Table 3.3.8.1-1, Function 2 (Degraded Voltage). The change identifies an additional time delay as a result of a plant modification to address the backfit issues discussed in Reference 3. Specifically, this proposed amendment adds a new time delay logic associated with Function 2 for a degraded voltage concurrent with a Loss of Coolant Accident (LOCA). This will bring Fermi 2 into full compliance with 10 CFR part 50, Appendix A, General Design Criterion (GDC)-17, “Electric Power Systems.”

Basis for proposed no significant hazards consideration determination: As required by 10 CFR 50.91(a), the licensee has provided its analysis of the issue of no significant hazards consideration, which is presented below.

1. The proposed change does not involve a significant increase in the probability or consequences of an accident previously evaluated.

Providing the additional logic ensures the timely transfer of plant safety system loads to the Emergency Diesel Generators in the event sustained degraded bus voltage is present with a Loss of Coolant Accident (LOCA) signal. This ensures that Emergency Core Cooling System (ECCS) equipment is powered from the emergency diesel generators in a timely manner. This change is needed to bring Fermi 2 into full compliance with 10 CFR part 50, Appendix A, General Design Criterion-17, “Electric Power Systems,” and to meet the requirements of NUREG-0800 Rev. 2, Branch Technical Position (BTP) Power Systems Branch (PSB)-1. The shorter time delay supports the time assumed in the accident analysis for water injection into the reactor vessel under degraded voltage conditions. Therefore, the proposed change does not involve a significant increase in the probability or consequences of an accident previously evaluated.

2. The proposed change does not create the possibility of a new or different kind of accident from any accident previously evaluated.

The proposed change does not affect any of the current degraded voltage logic schemes or any other equipment provided to mitigate accidents. It utilizes existing logic systems to isolate safety buses from the grid and repower those safety buses using the onsite emergency power system. The change adds logic to ensure that in the case of a sustained degraded voltage condition concurrent with a LOCA signal, the safety electrical power buses will be transferred from the offsite power system to the onsite power system in a timely manner to ensure water is injected into the reactor vessel in the time assumed and evaluated in the accident analysis. Therefore, the proposed change does not create the possibility of a new or different kind of accident from any accident previously evaluated.

3. The proposed change does not involve a significant reduction in the margin of safety.

This proposed change implements a new design for a reduced time delay to isolate safety buses from offsite power if a Loss of Coolant Accident were to occur concurrent with a sustained degraded voltage condition. This ensures that emergency core cooling system pumps inject water into the reactor vessel within the time assumed and evaluated in the accident analysis, consistent with the requirements of BTP PSB-1 section B.1.b. and 10 CFR part 50, Appendix A, General Design Criterion-17, “Electric Power Systems.” Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David G. Pettinari, Legal Department, 688 WCB, Detroit Edison Company, 2000 2nd Avenue, Detroit, Michigan 48226-1279.

NRC Branch Chief: Lois M. James.

Duke Energy Carolinas, LLC, et al., Docket Nos. 50-413 and 50-414, Catawba Nuclear Station, Units 1 and 2, York County, South Carolina

Date of amendment request: February 27, 2009.

Description of amendment request: The proposed amendments would revise the Technical Specifications to be consistent with Revision 0 of Technical Specification Task force (TSTF) TSTF 511, “Eliminate Working Hour Restrictions from TS 5.2.2 to Support Compliance with 10 CFR [Code of Federal Regulations] part 26.”

Basis for proposed no significant hazards consideration determination: As required by 10 CFR 50.91(a), the licensee has provided its analysis of the issue of no significant hazards consideration, which is presented below:

Criterion 1: The proposed change does not involve a significant increase in the probability or consequences of an accident previously evaluated.

The proposed change removes Technical Specification restrictions on working hours for personnel who perform safety related functions. The Technical Specification restrictions are superseded by the worker fatigue requirements in 10 CFR part 26. Removal of the Technical Specification requirements will be performed concurrently with the implementation of the 10 CFR part 26, subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The proposed change does not create the possibility of a new or different kind of accident from any accident previously evaluated.

The proposed change removes Technical Specification restrictions on working hours for personnel who perform safety related functions. The Technical Specification restrictions are superseded by the worker fatigue requirements in 10 CFR part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or affect the function of plant systems or the manner in which systems are operated, maintained, modified, tested, or inspected.

Therefore, the proposed change does not create the possibility of a new or different kind of accident from any previously evaluated.

Criterion 3: The proposed change does not involve a significant reduction in a margin of safety.

The proposed change removes Technical Specification restrictions on working hours for personnel who perform safety related functions. The Technical Specification restrictions are superseded by the worker fatigue requirements in 10 CFR part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific Technical Specification administrative requirements will not reduce a margin of safety because the requirements in 10 CFR part 26 are adequate to ensure that worker fatigue is managed.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Lisa F. Vaughn, Associate General Counsel and Managing Attorney, Duke Energy Carolinas, LLC, 526 South Church Street, EC07H, Charlotte, NC 28202.

NRC Branch Chief: Undine Shoop.

Duke Energy Carolinas, LLC, Docket Nos. 50-369 and 50-370, McGuire Nuclear Station, Units 1 and 2, Mecklenburg County, North Carolina

Date of amendment request: February 27, 2009.

Description of amendment request: The proposed amendments would revise the Technical Specifications to be consistent with Revision 0 of Technical Specification Task force (TSTF) TSTF 511, “Eliminate Working Hour Restrictions from TS 5.2.2 to Support Compliance with 10 CFR [Code of Federal Regulations] part 26.”

Basis for proposed no significant hazards consideration determination: As required by 10 CFR 50.91(a), the licensee has provided its analysis of the issue of no significant hazards consideration, which is presented below:

Criterion 1: The proposed change does not involve a significant increase in the probability or consequences of an accident previously evaluated.

The proposed change removes Technical Specification restrictions on working hours for personnel who perform safety related functions. The Technical Specification restrictions are superseded by the worker fatigue requirements in 10 CFR part 26. Removal of the Technical Specification requirements will be performed concurrently with the implementation of the 10 CFR part 26, subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The proposed change does not create the possibility of a new or different kind of accident from any accident previously evaluated.

The proposed change removes Technical Specification restrictions on working hours for personnel who perform safety related functions. The Technical Specification restrictions are superseded by the worker fatigue requirements in 10 CFR part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or affect the function of plant systems or the manner in which systems are operated, maintained, modified, tested, or inspected.

Therefore, the proposed change does not create the possibility of a new or different kind of accident from any previously evaluated.

Criterion 3: The proposed change does not involve a significant reduction in a margin of safety.

The proposed change removes Technical Specification restrictions on working hours for personnel who perform safety related functions. The Technical Specification restrictions are superseded by the worker fatigue requirements in 10 CFR part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific Technical Specification administrative requirements will not reduce a margin of safety because the requirements in 10 CFR part 26 are adequate to ensure that worker fatigue is managed.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Lisa F. Vaughn, Associate General Counsel and Managing Attorney, Duke Energy Carolinas, LLC, 526 South Church Street, EC07H, Charlotte, NC 28202.

NRC Branch Chief: Undine Shoop.

Duke Energy Carolinas, LLC, Docket Nos. 50-269, 50-270, and 50-287, Oconee Nuclear Station, Units 1, 2, and 3, Oconee County, South Carolina

Date of amendment request: February 27, 2009.

Description of amendment request: The proposed amendments would revise the Technical Specifications to be consistent with Revision 0 of Technical Specification Task Force (TSTF) TSTF 511, “Eliminate Working Hour Restrictions from TS 5.2.2 to Support Compliance with 10 CFR [Code of Federal Regulations] part 26.”

Basis for proposed no significant hazards consideration determination: As required by 10 CFR 50.91(a), the licensee has provided its analysis of the issue of no significant hazards consideration, which is presented below:

Criterion 1: The proposed change does not involve a significant increase in the probability or consequences of an accident previously evaluated.

The proposed change removes Technical Specification restrictions on working hours for personnel who perform safety related functions. The Technical Specification restrictions are superseded by the worker fatigue requirements in 10 CFR part 26. Removal of the Technical Specification requirements will be performed concurrently with the implementation of the 10 CFR part 26, subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The proposed change does not create the possibility of a new or different kind of accident from any accident previously evaluated.

The proposed change removes Technical Specification restrictions on working hours for personnel who perform safety related functions. The Technical Specification restrictions are superseded by the worker fatigue requirements in 10 CFR part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or affect the function of plant systems or the manner in which systems are operated, maintained, modified, tested, or inspected.

Therefore, the proposed change does not create the possibility of a new or different kind of accident from any previously evaluated.

Criterion 3: The proposed change does not involve a significant reduction in a margin of safety.

The proposed change removes Technical Specification restrictions on working hours for personnel who perform safety related functions. The Technical Specification restrictions are superseded by the worker fatigue requirements in 10 CFR part 26. The proposed change does not involve any physical changes to plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific Technical Specification administrative requirements will not reduce a margin of safety because the requirements in 10 CFR part 26 are adequate to ensure that worker fatigue is managed.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Lisa F. Vaughn, Associate General Counsel and Managing Attorney, Duke Energy Carolinas, LLC, 526 South Church Street, EC07H, Charlotte, NC 28202.

NRC Branch Chief: Undine Shoop.

Exelon Generation Company, LLC, Docket No. 50-461, Clinton Power Station, Unit No.1, DeWitt County, Illinois

Date of amendment request: April 22, 2009.

Description of amendment request: The proposed amendment would revise the inservice testing (IST) requirements from the American Society of Mechanical Engineers (ASME) Boiler and Pressure Vessel (BPV) Code, Section XI, to the ASME Code for Operation and Maintenance of Nuclear Power Plants (OM Code) and applicable addenda. This change would eliminate the ASME Code inconsistency between the IST program and the technical specification (TS) as required by Title 10 of the Code of Federal Regulations (10 CFR) 50.55a(f)(5)(ii). Additionally, the amendment would extend the applicability of surveillance requirement (SR) 3.0.2 provisions to other normal and accelerated frequencies specified as 2 years or less in the IST program. Finally, the amendment will remove the phrase “including applicable supports” from TS section 5.5.6. TS section 5.5.6, IST Program, and the associated TS Bases would be revised under this TS amendment.

Basis for proposed no significant hazards consideration determination: As required by 10 CFR 50.91(a), the licensee has provided its analysis of the issue of no significant hazards consideration which is presented below:

1. Does the change involve a significant increase in the probability or consequences of an accident previously evaluated?

Response: No.

The proposed changes revise [technical specification] TS 5.5.6 for [Clinton Power Station] CPS Unit 1 to conform to the requirements of 10 CFR 50.55a, “Codes and standards,” paragraph (f) regarding the inservice testing of pumps and valves beginning with the Third 10-year Interval. The current TS reference the [American Society of Mechanical Engineers] ASME Boiler and Pressure Vessel Code, Section XI, requirements for the inservice testing of ASME Code Class 1, 2, and 3 components, including applicable supports. The proposed changes would reference the ASME [Operation and Maintenances of Nuclear Power Plants] OM Code, which is consistent with 10 CFR 50.55a, paragraph (f), “Inservice testing requirements,” and approved for use by the NRC. In addition, provisions modifying TS 5.5.6, item b, clarify that [surveillance requirement] SR 3.0.2 is only applied to those inservice testing frequencies of two years or less. The definitions of the frequencies are not changed by this license amendment request. The change removing the phrase “including applicable supports” clarifies the scope of components in the [in-service testing] IST Program.

The proposed changes do not affect any accident initiators, do not affect the ability of CPS to successfully respond to previously evaluated accidents and do not affect radiological assumptions used in the evaluations. Thus, the radiological consequences of any accident previously evaluated are not increased.

Therefore, the proposed changes do not involve a significant increase in the probability or consequences of an accident previously evaluated.

2. Does the change create the possibility of a new or different kind of accident from any accident previously evaluated?

Response: No.

The proposed changes revise TS 5.5.6 for CPS Unit 1 to conform to the requirements of 10 CFR 50.55a(f) regarding the inservice testing of pumps and valves beginning with the Third 10-year Interval. The current TS reference the ASME Boiler and Pressure Vessel Code, section XI, requirements for the inservice testing of ASME Code Class 1, 2, and 3 components, including applicable supports. The proposed changes would reference the ASME OM Code, which is consistent with the 10 CFR 50.55a(f) and approved for use by the NRC. In addition, provisions modifying TS 5.5.6, item b, clarify that SR 3.0.2 is only applied to those inservice testing frequencies of two years or less. The definitions of the frequencies are not changed by this license amendment request. The change removing the phrase “including applicable supports” clarifies the scope of components in the IST Program.

The proposed changes to TS section 5.5.6 do not affect the performance of any CPS structure, system, or component credited with mitigating any accident previously evaluated and do not introduce any new modes of system operation or failure mechanisms. In addition, the proposed changes do not revise the frequency or method of testing the components covered by the IST program.

Therefore, the proposed changes do not create the possibility of a new or different kind of accident from any previously evaluated.

3. Does the change involve a significant reduction in a margin of safety?

Response: No.

The proposed changes revise TS 5.5.6 for CPS Unit 1 to conform to the requirements of 10 CFR 50.55a(f) regarding the inservice testing of pumps and valves beginning with the Third 10-year Interval. The current TS reference the ASME Boiler and Pressure Vessel Code, section XI, requirements for the inservice testing of ASME Code Class 1, 2, and 3 components, including applicable supports. The proposed changes would reference the ASME OM Code, which is consistent with the 10 CFR 50.55a(f) and approved for use by the NRC. In addition, provisions modifying TS 5.5.6, item b, clarify that SR 3.0.2 is only applied to those inservice testing frequencies of two years or less. The definitions of the frequencies are not changed by this license amendment request. The change removing the phrase “including applicable supports” clarifies the scope of components in the IST Program.

The proposed changes do not modify the safety limits or setpoints at which proactive actions are initiated and do not change the requirements governing operation or availability of safety equipment assumed to operate to preserve the margin of safety.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Nuclear, 4300 Winfield Road, Warrenville, IL 60555.

NRC Branch Chief: Stephen J. Campbell.

Indiana Michigan Power Company (the licensee), Docket No. 50-316, Donald C. Cook Nuclear Plant, Unit 2 (CNP-2), Berrien County, Michigan

Date of amendment request: March 19, 2009.

Description of amendment request: The proposed amendment would adopt a new analysis of a large break loss-of-coolant accident (LBLOCA) for CNP-2. The new analysis is performed using the NRC-approved methodology set forth in Westinghouse Topical Report WCAP-16009-P-A, “Realistic Large-Break LOCA Evaluation Methodology Using the Automated Statistical Treatment of Uncertainty Method (ASTRUM).” The licensee proposed to endorse this methodology by a revision to Technical Specification (TS) 5.6.5, “Core Operating Limits Report (COLR).”

The licensee is also requesting NRC approval to revise TS 3.4.1, “RCS [Reactor Coolant System] Pressure, Temperature, and Flow Departure from Nucleate Boiling Limits,” to change the minimum reactor coolant system (RCS) total flow rate from 366,400 to 354,000 gallons per minute (gpm). The current value is a minimum measured flow value which includes allowances for flow uncertainty. Current practice is that the thermal design flow value, which does not include allowances for flow measurement uncertainty, be specified in TSs. The minimum measured flow is specified in the COLR. That value is currently 354,000 gpm and is also reflected in the new LBLOCA analyses.

The licensee also proposes to amend TS 3.5.2, “ECCS—Operating.” Condition D allows the unit to be in Mode 1, 2, or 3 for an unlimited amount of time if a Safety Injection (SI) system cross-tie valve is closed, provided that thermal power is reduced to less than or equal to a specified value. The new LBLOCA analysis being proposed does not address a condition in which an SI cross-tie valve is closed. Therefore, the allowance provided by Condition D will be deleted, as well as reference to Condition D in TS 3.5.2, Conditions A and C.

Basis for proposed no significant hazards consideration determination: As required by 10 CFR 50.91(a), the licensee has provided its analysis of the issue of no significant hazards consideration, which is presented below:

1. Does the proposed change involve a significant increase in the probability of occurrence or Consequences of an Accident Previously Evaluated?

Response: No.

The current minimum departure from nucleate boiling ratio Technical Specification (TS) specify a minimum measured flow value in the Reactor Coolant System (RCS) total flow requirement. I&M is proposing to replace this minimum measured flow value with a thermal design flow value. The current minimum departure from nucleate boiling ratio TS also require that RCS total flow meet the requirements in the Core Operating Limits Report (CORL). The COLR specifies the minimum measured flow value. Consequently, the minimum measured flow value will continue to be met. This proposed change does not alter any system or actual flow value.

I&M is proposing to delete a TS provision that allows the unit to operate for an unlimited amount of time with a Safety Injection (SI) system cross tie valve closed, provided that thermal power is reduced. As discussed below, I&M is proposing to adopt a new large break loss-of-coolant accident (LBLOCA) analysis. The new analysis does not evaluate plant operation with an SI system cross-tie valve closed. The position of the SI system cross connect valve does not affect the likelihood of an accident. This proposed change will assure the plant will be operated within the new LBLOCA analysis.

I&M is proposing to modify the TS such that it identifies the new LBLOCA analysis methodology rather than the analysis methodology being replaced. This TS change is administrative in that it will identify the new methodology following approval of the new methodology by the Nuclear Regulatory Commission (NRC).

I&M is proposing to adopt a new LBLOCA analysis which uses a plant-specific adaptation of a best-estimate methodology using automated statistical treatment of uncertainty methodology (ASTRUM). The analysis is based on the current plant configuration and the plant will be operated within the assumptions of the analysis. The analysis demonstrates that the current emergency core cooling system design performance conforms to the criteria contained in 10 CFR 50.46.b. An LBLOCA is the only accident involved in this change. No changes are being made to any reactor protection system or engineered safeguards features actuation system setpoints.

Therefore, the proposed change does not involve a significant increase in the probability or consequences of an accident previously evaluated.

2. Does the proposed change create the possibility of a new or different kind of accident from any accident previously evaluated?

Response: No.

The proposed changes to the TS will not result in the operation of any structure, system, or component in a new or different manner. Adoption of a plant-specific adaptation of the ASTRUM methodology will not create any new failure modes that could lead to a different kind of accident.

Therefore, the proposed change does not create the possibility of a new or different kind of accident from any previously evaluated.

3. Does the proposed change involve a significant reduction in a margin of safety?

It has been shown that the analytical technique used in the analysis realistically describes the expected behavior of the Donald C. Cook Nuclear Plant Unit 2 reactor system during a postulated LBLOCA. Uncertainties have been accounted for as required by 10 CFR 50.46. A sufficient number of loss-of-coolant accidents (LOCAs) with different break sizes, different locations, and other variations in properties have been analyzed to provide assurance that the most severe postulated LOCAs were analyzed. WCOBRA/TRAC validation with the revised downcomer noding has been found acceptable for application of the ASTRUM methodology, with no changes to the uncertainty treatment. The analysis has demonstrated that all acceptance criteria contained in 10 CFR 50.46, Paragraph b, continue to be satisfied.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: James M. Petro, Jr., Senior Nuclear Counsel, Indiana Michigan Power Company, One Cook Place, Bridgman, MI 49106.

NRC Branch Chief: Lois M. James.

Southern California Edison Company, et al., Docket Nos. 50-361 and 50-362, San Onofre Nuclear Generating Station, Units 2 and 3, San Diego County, California

Date of amendment request: June 10, 2009.

Description of amendment request: The amendments would delete those portions of the Technical Specifications (TSs) for San Onofre Nuclear Generating Station, Units 2 and 3 that are superseded by the new requirements regarding working hours for nuclear plant staff in 10 CFR part 26, subpart I. This change is consistent with U.S. Nuclear Regulatory Commission (NRC)-approved Technical Specification Task Force (TSTF) Improved Standard Technical Specification change traveler, TSTF-511, Revision 0, “Eliminate Working Hour Restrictions from TS 5.2.2 to Support Compliance with 10 CFR part 26.” The availability of this TS improvement was announced in the Federal Register on December 30, 2008 (73 FR 79923), as part of the Consolidated Line Item Improvement Process (CLIIP).

Basis for proposed no significant hazards consideration determination: As required by 10 CFR 50.91(a), the licensee has provided its analysis of the issue of no significant hazards consideration, which is presented below:

Criterion 1: The Proposed Change Does Not Involve a Significant Increase in the Probability or Consequences of an Accident Previously Evaluated

The proposed change removes Technical Specification restrictions on working hours for personnel who perform safety related functions. The Technical Specification restrictions are superseded by the worker fatigue requirements in 10 CFR part 26. Removal of the Technical Specification requirements will be performed concurrently with the implementation of the 10 CFR part 26, subpart I, requirements. The proposed change does not impact the physical configuration or function of plant structures, systems, or components (SSCs) or the manner in which SSCs are operated, maintained, modified, tested, or inspected. Worker fatigue is not an initiator of any accident previously evaluated. Worker fatigue is not an assumption in the consequence mitigation of any accident previously evaluated.

Therefore, it is concluded that this change does not involve a significant increase in the probability or consequences of an accident previously evaluated.

Criterion 2: The Proposed Change Does Not Create the Possibility of a New or Different Kind of Accident From Any Accident Previously Evaluated

The proposed change removes Technical Specification restrictions on working hours for personnel who perform safety related functions. The Technical Specification restrictions are superseded by the worker fatigue requirements in 10 CFR part 26. Working hours will continue to be controlled in accordance with NRC requirements. The new rule allows for deviations from controls to mitigate or prevent a condition adverse to safety or as necessary to maintain the security of the facility. This ensures that the new rule will not unnecessarily restrict working hours and thereby create the possibility of a new or different kind of accident from any accident previously evaluated.

The proposed change does not alter the plant configuration, require new plant equipment to be installed, alter accident analysis assumptions, add any initiators, or effect the function of plant systems or the manner in which systems are operated, maintained, modified, tested, or inspected.

Therefore, the proposed change does not create the possibility of a new or different kind of accident from any previously evaluated.

Criterion 3: The Proposed Change Does Not Involve a Significant Reduction in a Margin of Safety

The proposed change removes Technical Specification restrictions on working hours for personnel who perform safety related functions. The Technical Specification restrictions are superseded by the worker fatigue requirements in 10 CFR part 26. The proposed change does not involve any physical changes to the plant or alter the manner in which plant systems are operated, maintained, modified, tested, or inspected. The proposed change does not alter the manner in which safety limits, limiting safety system settings or limiting conditions for operation are determined. The safety analysis acceptance criteria are not affected by this change. The proposed change will not result in plant operation in a configuration outside the design basis. The proposed change does not adversely affect systems that respond to safely shutdown the plant and to maintain the plant in a safe shutdown condition.

Removal of plant-specific Technical Specification administrative requirements will not reduce a margin of safety because the requirements in 10 CFR part 26 are adequate to ensure that worker fatigue is managed.

Therefore, the proposed change does not involve a significant reduction in a margin of safety.

The NRC staff has reviewed the licensee's analysis and, based on that review, it appears that the three standards of 10 CFR 50.92(c) are satisfied. Therefore, the NRC staff proposes to determine that the request for amendments involves no significant hazards consideration.

Attorney for licensee: Douglas K. Porter, Esquire, Southern California Edison Company, 2244 Walnut Grove Avenue, Rosemead, California 91770.

NRC Branch Chief: Michael T. Markley.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Southern Nuclear Operating Company, Inc., Docket Nos. 50-424 and 50-425, Vogtle Electric Generating Plant, Units 1 and 2, Burke County, Georgia

Date of amendment request: May 19, 2009.

Brief description of amendment request: The proposed amendment would revise Technical Specification (TS) 5.5.9, “Steam Generator (SG) Program,” to exclude portions of the tubes within the tubesheet from periodic SG inspections. In addition, this amendment proposes to revise TS 5.6.10, “Steam Generator Tube Inspection Report” to remove reference to previous interim alternate repair criteria and provide reporting requirements specific to the permanent alternate repair criteria. The proposed change defines the safety significant portion of the tube that must be inspected and repaired.

Date of publication of individual notice in the Federal Register: June 18, 2009 (74 FR 28962).

Expiration date of individual notice: July 18, 2009 (public comments). August 18, 2009 (hearing requests).

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) The applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the internet at the NRC web site, http://www.nrc.gov/reading-rm/adams.html. If you do not have access to ADAMS or if there are problems in accessing the documents located in ADAMS, contact the PDR Reference staff at 1 (800) 397-4209, (301) 415-4737 or by e-mail to pdr.resource@nrc.gov.

Calvert Cliffs Nuclear Power Plant, Inc., Docket Nos. 50-317 and 50-318, Calvert Cliffs Nuclear Power Plant, Unit Nos. 1 and 2, Calvert County, Maryland

Date of application for amendments: August 29, 2008, as supplemented by letters dated December 3, two letters dated December 29, December 30, 2008, February 17, February 18, March 10, May 7, and June 11, 2009.

Brief description of amendments: These amendments revise the Renewed Facility Operating License and Technical Specifications to reflect an increase in the rated thermal power from 2,700 megawatts thermal (MWt) to 2,737 MWt (1.38 percent increase). The increase is based upon increased feedwater flow measurement accuracy achieved by using high-accuracy Caldon CheckPlus™ Leading Edge Flow Meter ultrasonic flow measurement instrumentation.

Date of issuance: July 22, 2009.

Effective date: As of the date of issuance. Unit No. 1 shall be implemented within 180 days following completion of the 2009 refueling outage and Unit No. 2 shall be implemented within 180 days following completion of the 2010 refueling outage.

Amendment Nos.: 291 and 267.

Renewed Facility Operating License Nos. DPR-53 and DPR-69: Amendments revised the License and Technical Specifications.

Date of initial notice in Federal Register: November 4, 2008 (73 FR 65688). The letters dated December 3, two letters dated December 29, December 30, 2008, February 17, February 18, March 10, May 7, and June 11, 2009, provided additional information that clarified the application, did not expand the scope of the application as originally noticed, and did not change the staff's original proposed no significant hazards consideration determination as published in the Federal Register.

The Commission's related evaluation of these amendments is contained in a Safety Evaluation dated July 22, 2009.

No significant hazards consideration comments received: No.

Energy Northwest, Docket No. 50-397, Columbia Generating Station, Benton County, Washington

Date of application for amendment: March 30, 2009.

Brief description of amendment: The changes deleted those portions of Technical Specifications (TSs) superseded by Title 10 of the Code of Federal Regulations (10 CFR) part 26, subpart I, consistent with U.S. Nuclear Regulatory Commission-approved TS Task Force (TSTF) change traveler TSTF-511, Revision 0, “Eliminate Working Hour Restrictions from TS 5.2.2 to Support Compliance with 10 CFR part 26.”

Date of issuance: July 28, 2009.

Effective date: As of its date of issuance and shall be implemented by October 1, 2009.

Amendment No.: 213.

Facility Operating License No. NPF-21: The amendment revised the Facility Operating License and Technical Specifications.

Date of initial notice in Federal Register: May 5, 2009 (74 FR 20743).

The Commission's related evaluation of the amendment is contained in a Safety Evaluation dated July 28, 2009.

No significant hazards consideration comments received: No.

Entergy Operations, Inc., Docket No. 50-368, Arkansas Nuclear One, Unit No. 2, Pope County, Arkansas

Date of application for amendment: August 21, 2008.

Brief description of amendment: The amendment modified Technical Specification (TS) 6.5.16, “Containment Leakage Rate Testing Program,” to allow a one-time extension to the 10-year frequency for next containment integrated leakage rate test (ILRT) or Type A test at the Arkansas Nuclear One, Unit No. 2. The ILRT is required to be performed every 10 years. The amendment permitted the existing ILRT frequency to be extended from 10 years (120 months) to 135 months.

Date of issuance: July 20, 2009.

Effective date: As of the date of issuance and shall be implemented within 60 days from the date of issuance.

Amendment No.: 284.

Renewed Facility Operating License No. NPF-6: Amendment revised the Technical Specifications/license.

Date of initial notice in Federal Register: November 4, 2008 (73 FR 65694).

The Commission's related evaluation of the amendment is contained in a Safety Evaluation dated July 20, 2009.

No significant hazards consideration comments received: No.

Exelon Generation Company, LLC, Docket Nos. STN 50-456 and STN 50-457, Braidwood Station, Units 1 and 2 (Braidwood), Will County, Illinois

Docket Nos. STN 50-454 and STN 50-455, Byron Station, Unit Nos. 1 and 2 (Byron), Ogle County, Illinois

Date of application for amendment: July 29, 2008.

Brief description of amendment: The amendments remove time, cycle, or modification-related items from the operating licenses (OLs) and technical specifications (TSs) at both stations. Additionally, the amendments correct typographical errors introduced into the TSs at both stations in previous amendments. The time, cycle, or modification-related items have been implemented or superseded, are no longer applicable, and no longer need to be maintained in their associated OLs or TSs.

Date of issuance: July 22, 2009.

Effective date: As of the date of issuance and shall be implemented within 60 days.

Amendment Nos.: Brai dwood Unit 1-160; Braidwood Unit 2-160; Byron Unit No. 1-165; and Byron Unit No. 2-165.

Facility Operating License Nos. NPF-72, NPF-77, NPF-37, and NPF-66: The amendments revise the TSs and Licenses.

Date of initial notice in Federal Register: September 9, 2008 (73 FR 52417).

The Commission's related evaluation of the amendments is contained in a Safety Evaluation dated July 22, 2009.

No significant hazards consideration comments received: No.

FirstEnergy Nuclear Operating Company, Docket Nos. 50-334 and 50-412, Beaver Valley Power Station, Unit Nos. 1 and 2 (BVPS), Beaver County, Pennsylvania

Docket No. 50-346, Davis-Besse Nuclear Power Station, Unit No. 1 (DBNPS), Ottawa County, Ohio

Docket No. 50-440, Perry Nuclear Power Plant, Unit No. 1 (PNPP), Lake County, Ohio

Date of application for amendments: March 25, 2009.

Brief description of amendments: The amendments delete paragraph d of TS 5.2.2, “Unit Staff,” for BVPS and DBNPS, and paragraph e for PNPP. The application is consistent with NRC-approved Revision 0 to Technical Specification Task Force (TSTF) Improved Standard Technical Specification Change Traveler, TSTF-511, “Eliminate Working Hour Restrictions from TS 5.2.2 to Support Compliance with 10 CFR part 26.” The availability of this TS improvement was announced in the Federal Register (FR) on December 30, 2008 (73 FR 79923) as part of the Consolidated Line Item Improvement Process.

Date of issuance: July 16, 2009.

Effective date: As of the date of issuance, and shall be implemented by September 30, 2009.

Amendment Nos.: 284, 169, 280, 152.

Facility Operating License Nos. DPR-66, NPF-73, NPF-3, and NPF-58: The amendments revised the Technical Specifications/License.

Date of initial notice in Federal Register: May 5, 2009 (74 FR 20747).

The Commission's related evaluation of the amendments is contained in a Safety Evaluation dated July 16, 2009.

No significant hazards consideration comments received: No.

Florida Power Corporation, et al., Docket No. 50-302, Crystal River Unit No. 3 Nuclear Generating Plant, Citrus County, Florida

Date of application for amendment: June 3, 2008, as supplemented on November 17, 2008, and by letters dated April 8 and May 22, 2009.

Brief description of amendment: The amendment revises the Crystal River Unit 3 (CR-3) Final Safety Analysis Report Sections 5.4.3, “Structural Design Criteria” and 5.4.5.3, “Missile Analysis,” to include a statement regarding the design of the east wall of the CR-3 Auxiliary Building. The amendment changes the methodology used to qualify the east wall of the Auxiliary Building. The current methodology uses the methods in American Concrete Institute (ACI) Standard 318-63, “Building Code Requirements for Reinforced Concrete,” June 1963. The revised methodology is based on ACI 349-97, “Code Requirements for Nuclear Safety Related Concrete Structures,” as endorsed by NRC's Standard Review Plan (NUREG 0800), Revision 2—March 2007, Section 3.8.4 “Other Seismic Category 1 Structures.”

Date of issuance: July 24, 2009.

Effective date: As of the date of issuance and shall be implemented within 30 days from the date of issuance.

Amendment No.: 235.

Facility Operating License No. DPR-72: Amendment revises the Facility Operating License and authorizes revisions to the CR-3 FSAR sections 5.4.3 and 5.4.5.3.

Date of initial notice in Federal Register: June 23, 2009 (74 FR 29732).

The Commission's related evaluation and final no significant hazards consideration determination of the amendment is contained in a Safety Evaluation dated July 24, 2009.

No significant hazards consideration comments received: No.

FPL Energy Seabrook, LLC, Docket No. 50-443, Seabrook Station, Unit No. 1, Rockingham County, New Hampshire

Date of amendment request: February 18, 2009.

Description of amendment request: This amendment eliminates Working Hour Restrictions from Technical Specification 6.2.2 to support compliance with Title 10 of the Code of Federal Regulations (10 CFR) part 26, subpart I.

Date of issuance: July 21, 2009.

Effective date: As of its date of issuance and shall be implemented by October 1, 2009.

Amendment No.: 121.

Facility Operating License No. NPF-86: The amendment revised the License and Technical Specifications.

Date of initial notice in Federal Register: May 5, 2009 (74 FR 20749).

The Commission's related evaluation of the amendment is contained in a Safety Evaluation dated July 21, 2009.

No significant hazards consideration comments received: No.

Indiana Michigan Power Company, Docket Nos. 50-315 and 50-316, Donald C. Cook Nuclear Plant, Units 1 and 2, Berrien County, Michigan

Date of application for amendments: March 19, 2009, as supplemented on April 17, 2009.

Brief description of amendments: The amendments delete those portions of the Technical Specifications (TS) superseded by Title 10 of the Code of Federal Regulations (10 CFR), part 26, “Fitness for Duty Programs,” subpart I, “Managing Fatigue.” The change is consistent with Nuclear Regulatory Commission (NRC)-approved Technical Specification Task Force (TSTF) Improved Standard TS Change Traveler, TSTF-511, “Eliminate Working Hour Restrictions from TS 5.2.2 to Support Compliance with 10 CFR part 26.” Revision 0.

Date of issuance: July 24, 2009.

Effective date: As of the date of issuance, to be implemented by October 1, 2009.

Amendment Nos.: Unit 1—310; Unit 2—292.

Facility Operating License Nos. DPR-58 and DPR-74: The amendments revised the TSs and the Licenses.

Date of initial notice in Federal Register: May 5, 2009 (74 FR 20750). An April 17, 2009, supplement was issued to provide the State of Michigan the enclosure and attachments associated with the original March 19, 2009, application, as required pursuant to 10 CFR 50.91(b). Therefore, the April 17, 2009, supplement did not expand the scope of the application as originally noticed, and did not change the staff's proposed no significant hazards consideration published in the Federal Register on May 5, 2009.

The Commission's related evaluation of the amendments is contained in a Safety Evaluation dated July 24, 2009.

No significant hazards consideration comments received: No.

Nebraska Public Power District, Docket No. 50-298, Cooper Nuclear Station, Nemaha County, Nebraska

Date of amendment request: August 19, 2008.

Brief description of amendment: The amendment revised Technical Specification (TS) requirements for mode change limitations in accordance with U.S. Nuclear Regulatory Commission (NRC)-approved TS Task Force (TSTF) traveler TSTF-359, Revision 9, “Increase Flexibility in MODE Restraints,” and revised TS section 1.4, “Frequency,” in accordance with NRC-approved traveler TSTF-485, Revision 0, “Correct Example 1.4-1.”

Date of issuance: July 28, 2009.

Effective date: As of the date of issuance and shall be implemented within 90 days of issuance.

Amendment No.: 233.

Facility Operating License No. DPR-46: Amendment revised the Facility Operating License and Technical Specifications.

Date of initial notice in Federal Register: October 21, 2008 (73 FR 62565).

The Commission's related evaluation of the amendment is contained in a Safety Evaluation dated July 28, 2009.

No significant hazards consideration comments received: No.

Nine Mile Point Nuclear Station, LLC, Docket Nos. 50-220 and 50-410, Nine Mile Point Nuclear Station, Unit Nos. 1 and 2 (NMP 1 and 2), Oswego County, New York

Date of application for amendment: February 11, 2009.

Brief description of amendments: The amendments delete those portions of the Technical Specifications (TSs) superseded by Title 10 of the Code of Federal Regulations (10 CFR), part 26, subpart I. This change is consistent with Nuclear Regulatory Commission (NRC) approved Technical Specification Task Force (TSTF) Improved Standard Technical Specifications Change Traveler TSTF-511, Revision 0, “Eliminate Working Hour Restrictions from TS 5.2.2 to Support Compliance with 10 CFR part 26.” These changes were described in a Notice of Availability for Consolidated Line Item Improvement Process TSTF-511 published in the Federal Register on December 30, 2008 (73 FR 79923).

Date of issuance: July 27, 2009.

Effective date: As of the date of issuance to be implemented by October 1, 2009.

Amendment Nos.: 203 and 131.

Renewed Facility Operating License Nos. DPR-063 and NPF-069: The amendments revise the License and TSs.

Date of initial notice in Federal Register: April 21, 2009 (73 FR 18255).

The Commission's related evaluation of the amendment is contained in a Safety Evaluation dated July 27, 2009.

No significant hazards consideration comments received: No.

Omaha Public Power District, Docket No. 50-285, Fort Calhoun Station, Unit No. 1, Washington County, Nebraska

Date of amendment request: October 31, 2008.

Brief description of amendment: The amendment modifies Technical Specification 3.6(3), “Containment Recirculating Air Cooling and Filtering System,” by adding two new Surveillance Requirements (SRs) and modifying SRs 3.6(3)b, e and f. In addition, the amendment removed the license conditions related to the replacement and testing of containment air cooling and filtering (CACF) unit high-efficiency particulate air filters and surveillance testing of the CACF unit relief ports. These license conditions committed to by the licensee in its letter dated April 10, 2008, and were implemented via Technical Specification Amendment No. 255.

Date of issuance: July 22, 2009.

Effective date: As of the date of issuance and shall be implemented within 180 days from the date of issuance.

Amendment No.: 260.

Renewed Facility Operating License No. DPR-40: The amendment revised the Technical Specifications.

Date of initial notice in Federal Register: April 7, 2009 (74 FR 15773).

The Commission's related evaluation of the amendment is contained in a safety evaluation dated July 22, 2009.

No significant hazards consideration comments received: No.

Omaha Public Power District, Docket No. 50-285, Fort Calhoun Station, Unit No. 1, Washington County, Nebraska

Date of amendment request: July 31, 2008, as supplemented by letter dated May 8, 2009.

Brief description of amendment: The amendment modified the transformer allowed outage time in Technical Specification (TS) Sections 2.7(2)a., 2.7(2)b., and 2.7(2)c., and deleted the associated 2.7(2) special reporting requirements in TS 5.9.3j.

Date of issuance: July 24, 2009.

Effective date: As of the date of issuance and shall be implemented within 120 days from the date of issuance.

Amendment No.: 261.

Renewed Facility Operating License No. DPR-40: The amendment revised the Technical Specifications.

Date of initial notice in Federal Register: February 10, 2009 (74 FR 6666). The supplemental letter dated May 8, 2009, provided additional information that clarified the application, did not expand the scope of the application as originally noticed, and did not change the staff's original proposed no significant hazards consideration determination as published in the Federal Register.

The Commission's related evaluation of the amendment is contained in a safety evaluation dated July 24, 2009.

No significant hazards consideration comments received: No.

Omaha Public Power District, Docket No. 50-285, Fort Calhoun Station, Unit No. 1, Washington County, Nebraska

Date of amendment request: January 30, 2009.

Brief description of amendment: The amendment deleted paragraph e of Technical Specification (TS) 5.2.2, “Unit Staff,” consistent with NRC-approved Technical Specification Task Force (TSTF) change traveler TSTF-511, Revision 0, “Eliminate Working Hour Restrictions from TS 5.2.2 to Support Compliance with 10 CFR Part 26.” All administrative deviations from the model application were addressed in the application. The availability of the TS improvement was published in the Federal Register on December 30, 2008 (73 FR 79923), as part of the consolidated line item improvement process.

Date of issuance: July 24, 2009.

Effective date: As of the date of issuance and shall be implemented within 180 days from the date of issuance.

Amendment No.: 262.

Renewed Facility Operating License No. DPR-40: The amendment revised the Technical Specifications.

Date of initial notice in Federal Register: April 7, 2009 (74 FR 15775).

The Commission's related evaluation of the amendment is contained in a safety evaluation dated July 24, 2009.

No significant hazards consideration comments received: No.

PSEG Nuclear LLC, Docket No. 50-354, Hope Creek Generating Station, Salem County, New Jersey

Date of application for amendment: July 30, 2008, as supplemented by letter dated February 6, 2009.

Brief description of amendment: The amendment: (1) Relocates Technical Specification (TS) 3/4.7.5, “Snubbers,” to the Technical Requirements Manual (TRM); (2) relocates TS 6.10.3.I, which specifies retention requirements for records of snubber service life monitoring, to the TRM; (3) adds new TS Limiting Condition for Operation (LCO) 3.0.8, “Inoperability of Snubbers;” and (4) modifies LCO 3.0.1 to reference LCO 3.0.8.

Date of issuance: July 15, 2009.

Effective date: As of the date of issuance, to be implemented within 90 days.

Amendment No.: 179.

Facility Operating License No. NPF-57: The amendment revised the TSs and the License.

Date of initial notice in Federal Register: October 7, 2008 (73 FR 58677). The letter dated February 6, 2009, provided clarifying information that did not change the initial proposed no significant hazards consideration determination or expand the application beyond the scope of the original Federal Register notice.

The Commission's related evaluation of the amendment is contained in a Safety Evaluation dated July 15, 2009.

No significant hazards consideration comments received: No.

Tennessee Valley Authority, Docket No. 50-390, Watts Bar Nuclear Plant (WBN), Unit 1, Rhea County, Tennessee

Date of application for amendment: April 30, 2009.

Brief description of amendment: The amendment revised WBN Unit 1 Technical Specification (TS) 5.7, “Procedures, Programs, and Manuals,” to correct a typographical error in the TS numbering from 5.2.7.20 to 5.7.2.20.

Date of issuance: July 21, 2009.

Effective date: As of the date of issuance and shall be implemented within 30 days of issuance.

Amendment No.: 78.

Facility Operating License No. NPF-90: Amendment revised TS 5.7.

Date of initial notice in Federal Register: May 19, 2009 (74 FR 23449).

The Commission's related evaluation of the amendment is contained in a Safety Evaluation dated July 21, 2009.

No significant hazards consideration comments received: No.

Dated at Rockville, Maryland, this 3rd day of August 2009.
For the Nuclear Regulatory Commission.
Joseph G. Giitter,
Director, Division of Operating Reactor Licensing, Office of Nuclear Reactor Regulation.

[FR Doc. E9-18946 Filed 8-10-09; 8:45 am]

BILLING CODE 7590-01-P